ENVIRONMENTAL PROTECTION AGENCY

[ER-FRL-9018-6]

Environmental Impact Statements; Notice of Availability

Responsible Agency: Office of Federal Activities, General Information (202) 564-7146 or http://www.epa.gov/compliance/nepa/.

Weekly receipt of Environmental Impact Statements

Filed 12/15/2014 Through 12/19/2014

Pursuant to 40 CFR 1506.9.

Notice: Section 309(a) of the Clean Air Act requires that EPA make public its comments on EISs issued by other Federal agencies. EPA's comment letters on EISs are available at: http:// www.epa.gov/compliance/nepa/eisdata.html.

EIS No. 20140373, Draft EIS, USFS, AK, Kake to Petersburg Transmission Line Intertie Project, Comment Period Ends: 02/11/2015, Contact: Tom Parker 907-772-5974.

EIS No. 20140374, Final EIS, FHWA, NY, Portageville Bridge Project, Contact: Jonathan McDade 518-431-4127.

Under MAP-21 section 1319, FHWA has issued a single FEIS and ROD. Therefore, the 30-day wait/review period under NEPA does not apply to the above action.

EIS No. 20140375, Final EIS, BLM, NM, Prehistoric Trackways National Monument Proposed Resource Management Plan, review period ends: 01/27/2015, Contact: Jennifer Montoya 575-525-4316.

EIS No. 20140376, Final EIS, USFS, ID, Golden Hand No. 1 and No. 2 Lode Mining Claims Project, review period ends: 01/27/2015, Contact: Anthony Botello 208-634-0601.

EIS No. 20140377, Draft EIS, BLM, CA, Proposed Land Exchange between Bureau of Land Management and Agua Caliente Band of Cahuilla Indians, comment period ends: 03/29/2015, Contact: Jim Foote 760-833-7136.

EIS No. 20140378, Second Final Supplement, FSA, 00, PROGRAMMATIC—Conservation Reserve Program, review period ends: 02/15/2015, Contact: Nell Fuller 202-720-6303.

EIS No. 20140379, Final EIS, FERC, CA, Relicensing the Upper Drum-Spaulding Hydroelectric Project, FERC No. 2310-193; Lower Drum Hydroelectric Project, FERC No. 14531-000; Deer Creek Hydroelectric Project, FERC No. 14530-000; and Yuba-Bear Hydroelectric Project, FERC No. 2266-102, review period ends: 02/11/2015, Contact: Alan Mitchnick 202-502-6074.

Amended Notices

EIS No. 20140344, Final EIS, FHWA, TX, U.S. 181 Harbor Bridge, Review Period Ends: 01/20/2015, Contact: Gregory S. Punske 512-536-5960.

Revision to FR Notice Published 12/05/2014; Extending the Review Period from 01/05/2015 to 01/20/2015.

EIS No. 20140372, Draft EIS, DOE, 00, Plains and Eastern Clean Line Transmission Project, Comment Period Ends: 03/19/2015, Contact: Jane Summerson, Ph.D. 505-845-4091 Revision to FR Notice Published 12/19/2014; Correction to the Comment Period from 02/02/2015 to 03/19/2015.

Dated: December 22, 2014.
Cliff Rader,
Director, NEPA Compliance Division, Office of Federal Activities.

[FR Doc. 2014-30401 Filed 12-24-14; 8:45 am]

BILLING CODE 6560-50-P